DEPARTMENT OF HOUSING AND URBAN DEVELOPMENT

[Docket No. FR-4730-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 58-41, 5600 fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Department of the Army, Office of the Assistant Chief of Staff for Installation Management, Attn: DAIM-MD, Room 1E677, 600 Army Pentagon, Washington, DC 20310-600; (703) 692-9223; DOT: Mr. Rugene Spruill, Principal, Space Management, SVC-140, Transportation Administrative Service Center, Department of Transportation, 400 7th Street, SW, Room 2310, Washington, DC 20590; (202) 366-4266; Energy: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: December 6, 2002.
John D. Garrity,
Director, Office of Special Needs Assistance Programs.

Title V. Federal Surplus Property Program Federal Register Report for 12/13/02

Suitable/Available Properties

Buildings (by State)

Missouri

Old Custom House/P.O.

815 Olive Street

St. Louis Co: MO 63101-

Landholding Agency: GSA

Property Number: 54200240016

Status: Surplus

Comment: 6-story office building, restrictive use due to Historical Landmark status

GSA Number: 7-G-MO-074

Pennsylvania

Bldg. 00634

Carlisle Barracks

Carlisle Co: Cumberland PA 17013-

Landholding Agency: Army

Property Number: 21200240089

Status: Unutilized

Comment: 113 sq. ft., presence of asbestos, most recent use—plant/utility bldg., off-site use only

California

Bldgs. 18017, 18018

SATCOM

Paso Robles Co: San Luis Obispo CA 93451-

Landholding Agency: Army

Property Number: 212002240081

Status Unutilized

Comment: 1440 sq. ft., most recent use—storage, off-site use only

Bldg. 18300

SATCOM

Paso Robles Co: San Luis Obispo CA 93451-

Landholding Agency: Army

Property Number: 212002240082

Status: Unutilized

Comment: 864 sq. ft., presence of asbestos, most recent use—admin., off-site use only

Georgia

Bldg. T-920

Fort Stewart

Hinesville Co: Liberty GA 31314-

Landholding Agency: Army

Property Number: 212002240083

Status: Excess

Comment: 13,337 sq. ft., most recent use—office, off-site use only

North Carolina

Bldgs. A2245, A2345

Fort Bragg

Ft. Bragg Co: Cumberland NC 28310-

Landholding Agency: Army

Property Number: 21200240084

Status: Excess

Comment: 3444 sq. ft. each, possible asbestos/lead paint, most recent use—vehicle maint. shop, off-site use only

Bldg. A2544

Fort Bragg

Ft. Bragg Co: Cumberland NC-

Landholding Agency: Army

Property Number: 21200240085

Status: Excess

Comment: 4000 sq. ft., possible asbestos/lead paint, most recent use—admin. facility, off-site use only

Bldg. D2826

Fort Bragg

Ft. Bragg Co: Cumberland NC-28310-

Landholding Agency: Army

Property Number: 21200240086

Status: Excess

Comment: 41,520 sq. ft., possible asbestos/lead paint, most recent use—barracks, off-site use only

Bldg. N4116

Fort Bragg

Ft. Bragg Co: Cumberland NC-28310-

Landholding Agency: Army

Property Number: 21200240087

Status: Excess

Comment: 3944 sq. ft., possible asbestos/lead paint, most recent use—community facility, off-site use only

103 Bldgs.

Fort Bragg

Ft. Bragg Co: Cumberland NC-28310-5000

Location: WS001-WS02A, PE001-PE031, 002F1-02F36, 00651, 1101, DT001-DT035, DT052-DT056, 09051

Landholding Agency: Army

Property Number: 21200240088

Status: Excess

Comment: Multi-use structures, various sq ft., possible asbestos/lead paint, off-site use only

Virginia

Bldgs. T0107-T0111

Fort Pickett

Blackstone Co: Nottoway VA 23824-

Landholding Agency: Army

Property Number: 2120024090

Status: Unutilized

Comment: 9017 sq. ft., poor condition, presence of asbestos, most recent use—warehouse, off-site use only

Washington

Bldg. 04180

Fort Lewis

Ft. Lewis Co: Pierce WA 98433-9500

Landholding Agency: Army

Property Number: 21200240091

Status: Unutilized

Comment: 72 sq. ft., most recent use—guard shack, off-site use only

Bldg. 05904

Fort Lewis

Ft. Lewis Co: Pierce WA 98433-9500

Landholding Agency: Army

Property Number: 21200240092

Status: Excess

Comment: 82 sq. ft., most recent use—guard shack, off-site use only

Bldgs. 9003, 9517

Fort Lewis

Ft. Lewis Co: Pierce WA 98433-9500

Landholding Agency: Army

Property Number: 21200240093

Status: Excess

Comment: 80 and 82 sq. ft., most recent use—guard shack, off-site use only

Unsuitable properties

Buildings (by State)

Hawaii

Bldg. 329

NCTAMS PAC

Wahiawa Co: HI 96786-

Landholding Agency: Navy

Property Number: 77200240058

Status: Excess

Reason: Secured Area

Mississippi

Bldgs. 239, 240

Naval Air Station

Meridian Co: Lauderdale MS 39309-

Landholding Agency: Navy

Property Number: 77200240060

Status: Unutilized

Reason: Secured Area

Bldg. 248

Naval Air Station

Meridian Co: Lauderdale MS 39309-

Landholding Agency: Navy

Property Number: 77200240061

Status: Unutilized

Reason: Secured Area

Bldg. 412

Naval Air Station

Meridian Co: Lauderdale MS 39309-

Landholding Agency: Navy

Property Number: 77200240062

Status: Unutilized

Reason: Secured Area

New Jersey

4 Bldgs.

Naval Air Engineering Station 26, 75, 126, 303

Lakehurst Co: Ocean NJ 08733-5000

Landholding Agency: Navy

Property Number: 77200240059

Status: Unutilized

Reason: Extensive deterioration

Sheds OV1, OV2, OV3

U.S. Coast Guard

Shark River

Avon by the Sea Co: Monmouth NJ 13640-

Landholding Agency: DOT

Property Number: 87200240001

Status: Unutilized

Reason: Secured Area

Unit 13

USCG Station Barnegat Light

Station Barnegat Co: Ocean NJ

Landholding Agency: DOT

Property Number: 87200240002

Status: Unutilized

Reason: Secured Area

Units 9-12

USCG Station Barnegat Light

Station Barnegat Co: Ocean NJ

Landholding Agency: DOT

Property Number: 87200240003

Status: Unutilized

Reason: Secured Area

New Mexico

Bldg. 805

Kirtland Air Force Base

Albuquerque Co: Bernalillo NM 87185-

Landholding Agency: Energy

Property Number: 41200240001

Status: Unutilized

Reason: Secured Area

Bldg. 8898

Kirtland Air Force Base

Albuquerque Co: Bernalillo NM 87185-

Landholding Agency: Energy

Property Number: 41200240002

Status: Unutilized

Reason: Secured Area

8 Bldgs., TA-16

Los Alamos National Lab

195, 220-226

Los Alamos Co: NM 87545-

Landholding Agency: Energy

Property Number: 41200240003

Status: Unutilized

Reason: Secured Area

Bldg. 2, TA-11

Los Alamos National Lab

Los Alamos Co: NM 87545-

Landholding Agency: Energy

Property Number: 41200240004

Status: Unutilized

Reason: Secured Area

Bldg. 4, TA-41

Los Alamos National Lab

Los Alamos Co: NM 87545-

Landholding Agency: Energy

Property Number: 41200240005

Status: Unutilized

Reason: Secured Area

Bldg. 16, TA-41

Los Alamos National Lab

Los Alamos Co: NM 87545-

Landholding Agency: Energy

Property Number: 41200240006

Status: Unutilized

Reason: Secured Area

Bldg. 30, TA-41

Los Alamos National Lab

Los Alamos Co: NM 87545-

Landholding Agency: Energy

Property Number: 41200240007

Status: Unutilized

Reason: Secured Area

Bldg. 53, TA-41

Los Alamos National Lab

Los Alamos Co: NM 87545-

Landholding Agency: Energy

Property Number: 41200240008

Status: Unutilized

Reason: Secured Area

North Carolina

Frying Pan Schoals Light

USCG

Cape Fear Co: NC

Landholding Agency: DOT

Property Number: 87200240004

Status: Unutilized

Reason: Secured Area

Diamond Schoals Light

USCG

Cape Hatteras Co: NC

Landholding Agency: DOT

Property Number: 87200240005

Status: Unutilized

Reason: Secured Area

Unsuitable Properties

Land (by State)

Washington

Hanford Training Site #2

Horn Rapids Road

Benton Co: Benton WA

Landholding Agency: GSA

Property Number: 54200240017

Status: Excess

Reason: Within 2000 ft. of flammable or explosive material GSA Number: 9-B-WA-1198B

[FR Doc. 02-31257 Filed 12-12-02; 8:45 am]

BILLING CODE 4210-29-M